DEPARTMENT OF HOMELAND SECURITY

Federal Emergency Management Agency

44 CFR Part 67

[Docket ID FEMA-2012-0003]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below for the modified BFEs for each community listed. These modified elevations have been published in newspapers of local circulation and ninety (90) days have elapsed since that publication. The Deputy Associate Administrator for Mitigation has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) modified | Communities affected
Cobb County, Georgia, and Incorporated Areas
Docket No.: FEMA-B-1233
Buttermilk Creek | At the Sweetwater Creek confluence | +892 | City of Austell, Unincorporated Areas of Cobb County.
| Approximately 1.0 mile upstream of the Sweetwater Creek confluence | +892
Chattahoochee River | Approximately 2.9 miles downstream of I-20 | +760 | City of Smyrna, Unincorporated Areas of Cobb County.
| Approximately 1.8 miles upstream of Morgan Falls Dam | +861
Concord Creek | At the Nickajack Creek confluence | +894 | Unincorporated Areas of Cobb County.
| Approximately 720 feet upstream of Auldyn Drive | +999
Cooper Lake Creek | Approximately 1,200 feet upstream of the Nickajack Creek confluence | +825 | City of Smyrna, Unincorporated Areas of Cobb County.
| At the upstream side of Gann Road Southeast | +892
Favor Creek | At the Nickajack Creek confluence | +913 | Unincorporated Areas of Cobb County.
| Approximately 1.55 miles upstream of the Nickajack Creek confluence | +1001
Gilmore Creek | At the Chattahoochee River confluence | +774 | Unincorporated Areas of Cobb County.
| Approximately 0.64 mile upstream of the Chattahoochee River confluence | +774
Gothards Creek | At the Sweetwater Creek confluence | +905 | Unincorporated Areas of Cobb County.
| At the Douglas County boundary | +905
Harmony Grove Creek | At the Willeo Creek confluence | +898 | Unincorporated Areas of Cobb County.
| At the upstream side of Johnson Ferry Road | +1052
Laurel Creek | At the Nickajack Creek confluence | +802 | City of Smyrna, Unincorporated Areas of Cobb County.
| Approximately 500 feet upstream of Lee Street Southeast | +984
Liberty Hill Branch | At the Queen Creek confluence | +774 | Unincorporated Areas of Cobb County.
| Approximately 0.95 mile upstream of the Queen Creek confluence | +911
Little Noonday Creek | At the Noonday Creek confluence | +905 | Unincorporated Areas of Cobb County.
| Approximately 0.5 mile upstream of the Noonday Creek confluence | +905
Lost Mountain Creek | At the Wildhorse Creek confluence | +903 | City of Powder Springs, Unincorporated Areas of Cobb County.
| Approximately 1,250 feet upstream of Macedonia Road Southwest | +943
Milam Branch | At the Queen Creek confluence | +904 | Unincorporated Areas of Cobb County.
| Approximately 200 feet upstream of Francis Circle Southwest | +1013
Mill Creek No. 2 | At the Nickajack Creek confluence | +902 | Unincorporated Areas of Cobb County.
| Approximately 150 feet upstream of Hicks Road Southwest | +963
Mud Creek | At the Noses Creek confluence | +908 | Unincorporated Areas of Cobb County.
| Approximately 0.4 mile upstream of the Noses Creek confluence | +911
Nickajack Creek | At the Chattahoochee River confluence | +764 | City of Smyrna, Unincorporated Areas of Cobb County.
| Approximately 200 feet upstream of South Cobb Drive | +1049
Noonday Creek | At the Cherokee County boundary | +895 | City of Kennesaw, City of Marietta, Unincorporated Areas of Cobb County.
| Approximately 350 feet upstream of New Salem Road | +1023
Noonday Creek Tributary No. 4 | At the Noonday Creek confluence | +927 | Unincorporated Areas of Cobb County.
| Approximately 1,800 feet upstream of the Noonday Creek confluence | +928
Noses Creek | At the Sweetwater Creek confluence | +895 | City of Austell, City of Marietta, City of Powder Springs, Unincorporated Areas of Cobb County.
| Approximately 450 feet upstream of Kennesaw Avenue | +1081
Olley Creek | At the Sweetwater Creek confluence | +895 | City of Austell, Unincorporated Areas of Cobb County.
| At the upstream side of Clay Road Southwest | +895
Powder Springs Creek | At the Sweetwater Creek confluence | +901 | City of Austell, City of Powder Springs, Unincorporated Areas of Cobb County.
| Approximately 1,750 feet upstream of Oglesby Road | +901
Powers Branch | At the Chattahoochee River confluence | +795 | Unincorporated Areas of Cobb County.
| Approximately 1,060 feet upstream of the Chattahoochee River confluence | +795
Queen Creek | At the Nickajack Creek confluence | +764 | Unincorporated Areas of Cobb County.
| At the upstream side of Mableton Parkway | +999
Rottenwood Creek | At the Chattahoochee River confluence | +781 | Unincorporated Areas of Cobb County.
| Approximately 1,300 feet upstream of the Chattahoochee River confluence | +781
Smyrna Branch | At the Theater Branch confluence | +930 | City of Smyrna.
| Approximately 200 feet upstream of Powder Springs Street Southeast | +998
Sweat Mountain Creek | At the Willeo Creek confluence | +941 | Unincorporated Areas of Cobb County.
| Approximately 950 feet upstream of Wesley Chapel Road | +1000
Sweetwater Creek | Approximately 200 feet downstream of Old Alabama Road | +891 | City of Austell, Unincorporated Areas of Cobb County.
| At the Paulding County boundary | +909
Theater Branch | At the Nickajack Creek confluence | +923 | City of Smyrna, Unincorporated Areas of Cobb County.
| At the downstream side of Parkway Drive Southeast | +975
Timber Ridge Branch | At the Willeo Creek confluence | +863 | Unincorporated Areas of Cobb County.
| Approximately 1.22 miles upstream of the Willeo Creek confluence | +879
Ward Creek | At the Noses Creek confluence | +924 | Unincorporated Areas of Cobb County.
| Approximately 0.4 mile upstream of the Noses Creek confluence | +925
Wildhorse Creek | At the Noses Creek confluence | +903 | City of Powder Springs, Unincorporated Areas of Cobb County.
| Approximately 700 feet upstream of Arapaho Drive | +953
Willeo Creek | Approximately 1,000 feet upstream of the Chattahoochee River confluence | +863 | Unincorporated Areas of Cobb County.
| Approximately 400 feet upstream of the Sweat Mountain Creek confluence | +942
* National Geodetic Vertical Datum.
+ North American Vertical Datum.
# Depth in feet above ground.
‸ Mean Sea Level, rounded to the nearest 0.1 meter.
ADDRESSES
City of Austell
Maps are available for inspection at City Hall, 2716 Broad Street Southwest, Austell, GA 30106.
City of Kennesaw
Maps are available for inspection at City Hall, 2529 J.O. Stephenson Avenue, Kennesaw, GA 30144.
City of Marietta
Maps are available for inspection at the Public Works Department, 205 Lawrence Street, Marietta, GA 30060.
City of Powder Springs
Maps are available for inspection at City Hall, 4484 Marietta Street, Powder Springs, GA 30127.
City of Smyrna
Maps are available for inspection at the Engineer's Office, 2800 King Street, Smyrna, GA 30080.
Unincorporated Areas of Cobb County
Maps are available for inspection at the Cobb County Development and Inspection Department, 205 Lawrence Street, Marietta, GA 30060.
Douglas County, Georgia, and Incorporated Areas
Docket No.: FEMA-B-1233
Anneewakee Creek | At the Chattahoochee River confluence | +749 | Unincorporated Areas of Douglas County.
| Approximately 1,900 feet upstream of the Anneewakee Creek Tributary B confluence | +749
Anneewakee Creek Tributary A | At the Anneewakee Creek confluence | +749 | Unincorporated Areas of Douglas County.
| Approximately 910 feet upstream of the Anneewakee Creek confluence | +749
Anneewakee Creek Tributary B | At the Anneewakee Creek confluence | +749 | Unincorporated Areas of Douglas County.
| Approximately 500 feet upstream of the Anneewakee Creek confluence | +749
Bear Creek | At the upstream side of the Chattahoochee River confluence | +740 | Unincorporated Areas of Douglas County.
| Approximately 2,000 feet upstream of State Route 166 | +740
Beaver Creek | At the Sweetwater Creek confluence | +871 | Unincorporated Areas of Douglas County.
| Approximately 500 feet upstream of Patty Court | +1006
Beaver Creek Tributary A | At the Beaver Creek confluence | +914 | Unincorporated Areas of Douglas County.
| Approximately 0.52 mile upstream of the Beaver Creek confluence | +953
Camp Branch | At the Hurricane Creek confluence | +975 | Unincorporated Areas of Douglas County.
| Approximately 1,200 feet upstream of the Camp Branch Tributary A confluence | +1062
Camp Branch Tributary A | At the Camp Branch confluence | +1043 | Unincorporated Areas of Douglas County.
| Approximately 750 feet upstream of the Camp Branch confluence | +1066
Chattahoochee River | At the Carroll County boundary | +730 | City of Douglasville, Unincorporated Areas of Douglas County.
| At the Cobb County boundary | +760
Dog River | At the Chattahoochee River confluence | +736 | Unincorporated Areas of Douglas County.
| Approximately 1,200 feet upstream of the Chattahoochee River confluence | +736
Dry Creek | At the Beaver Creek confluence | +891 | Unincorporated Areas of Douglas County.
| Approximately 1,050 feet upstream of Lee Road | +988
Dry Creek Tributary A | At the Dry Creek confluence | +898 | Unincorporated Areas of Douglas County.
| Approximately 0.53 mile upstream of the Dry Creek confluence | +925
Dry Creek Tributary B | At the Dry Creek confluence | +928 | Unincorporated Areas of Douglas County.
| Approximately 1,170 feet upstream of the Dry Creek confluence | +944
Dry Creek Tributary C | At the Dry Creek confluence | +943 | Unincorporated Areas of Douglas County.
| Approximately 1,900 feet upstream of the Dry Creek confluence | +969
Gordon Creek | At the Sweetwater Creek confluence | +881 | City of Douglasville, Unincorporated Areas of Douglas County.
| At the Cobb County boundary | +898
Gothards Creek | At the Cobb County boundary | +905 | Unincorporated Areas of Douglas County.
| Approximately 1.35 miles upstream of Cedar Mountain Road | +1042
Gothards Creek Tributary 1 | At the Gothards Creek confluence | +906 | Unincorporated Areas of Douglas County.
| Approximately 1,040 feet upstream of the Gothards Creek confluence | +908
Gothards Creek Tributary 10 | At the Gothards Creek confluence | +946 | Unincorporated Areas of Douglas County.
| Approximately 0.68 mile upstream of the Gothards Creek confluence | +970
Gothards Creek Tributary 11 | Approximately 250 feet upstream of the Gothards Creek confluence | +948 | Unincorporated Areas of Douglas County.
| Approximately 1.03 miles upstream of the Gothards Creek Tributary 11.3 confluence | +1063
Gothards Creek Tributary 11.1 | At the Gothards Creek Tributary 11 confluence | +972 | Unincorporated Areas of Douglas County.
| Approximately 200 feet upstream of Cedar Mountain Road | +987
Gothards Creek Tributary 11.2 | At the Gothards Creek Tributary 11 confluence | +985 | City of Douglasville, Unincorporated Areas of Douglas County.
| Approximately 1.05 miles upstream of the Gothards Creek Tributary 11 confluence | +1100
Gothards Creek Tributary 11.3 | At the Gothards Creek Tributary 11 confluence | +1006 | Unincorporated Areas of Douglas County.
| Approximately 0.49 mile upstream of the Gothards Creek Tributary 11 confluence | +1042
Gothards Creek Tributary 12 | At the Gothards Creek confluence | +961 | Unincorporated Areas of Douglas County.
| Approximately 0.60 mile upstream of the Gothards Creek confluence | +1000
Gothards Creek Tributary 15 | At the Gothards Creek confluence | +980 | Unincorporated Areas of Douglas County.
| Approximately 350 feet upstream of County Services Road | +1013
Gothards Creek Tributary 2 | At the Gothards Creek confluence | +909 | Unincorporated Areas of Douglas County.
| Approximately 0.78 mile upstream of the Gothards Creek confluence | +995
Gothards Creek Tributary 2.1 | At the Gothards Creek confluence | +907 | Unincorporated Areas of Douglas County.
| At the Gothards Creek Tributary 2 divergence | +966
Gothards Creek Tributary 3 | At the Gothards Creek confluence | +910 | Unincorporated Areas of Douglas County.
| Approximately 1,100 feet upstream of Boyd Road | +1095
Gothards Creek Tributary 3.1 | At the Gothards Creek Tributary 3 | +917 | Unincorporated Areas of Douglas County.
| Approximately 640 feet upstream of Greystone Lane | +1057
Gothards Creek Tributary 3.2 | At the Gothards Creek Tributary 3 confluence | +928 | Unincorporated Areas of Douglas County.
| At the upstream side of Cody Lane | +951
Gothards Creek Tributary 4 | At the Paulding County boundary | +935 | Unincorporated Areas of Douglas County.
| Approximately 1,650 feet upstream of the Paulding County boundary | +961
Gothards Creek Tributary 4.1 | At the Paulding County boundary | +938 | Unincorporated Areas of Douglas County.
| Approximately 0.39 mile upstream of the Paulding County boundary | +980
Gothards Creek Tributary 4.1.1 | At the Paulding County boundary | +933 | Unincorporated Areas of Douglas County.
| Approximately 650 feet upstream of Bearden Road | +972
Gothards Creek Tributary 6 | At the Gothards Creek confluence | +926 | City of Douglasville, Unincorporated Areas of Douglas County.
| Approximately 300 feet upstream of Maroney Mill Road | +941
Gothards Creek Tributary 8 | At the Gothards Creek confluence | +940 | City of Douglasville, Unincorporated Areas of Douglas County.
| Approximately 0.95 mile upstream of the Gothards Creek Tributary 8.1 confluence | +1084
Gothards Creek Tributary 8.1 | At the Gothards Creek Tributary 8 confluence | +977 | City of Douglasville, Unincorporated Areas of Douglas County.
| Approximately 0.67 mile upstream of the Gothards Creek Tributary 8 confluence | +1030
Gothards Creek Tributary 9 | At the Gothards Creek confluence | +945 | Unincorporated Areas of Douglas County.
| Approximately 0.46 mile upstream of the Gothards Creek confluence | +962
Hickory Creek | At the Beaver Creek confluence | +926 | City of Douglasville, Unincorporated Areas of Douglas County.
| Approximately 0.52 mile upstream of Burnt Hickory Road | +1043
Hickory Creek Tributary A | At the Hickory Creek confluence | +958 | City of Douglasville, Unincorporated Areas of Douglas County.
| Approximately 1,650 feet upstream of U.S. Route 20 | +999
Hickory Creek Tributary B | At the Hickory Creek confluence | +959 | City of Douglasville, Unincorporated Areas of Douglas County.
| Approximately 650 feet upstream of September Way | +1036
Hickory Creek Tributary C | At the Hickory Creek confluence | +983 | City of Douglasville, Unincorporated Areas of Douglas County.
| Approximately 350 feet upstream of Magnolia Trail | +1036
Hickory Creek Tributary D | At the Hickory Creek confluence | +999 | Unincorporated Areas of Douglas County.
| Approximately 1,250 feet upstream of Lakeland Hills Drive | +1046
Hickory Creek Tributary E | At the Hickory Creek confluence | +1007 | Unincorporated Areas of Douglas County.
| Approximately 0.47 mile upstream of the Hickory Creek confluence | +1056
Huey Creek | At the Paulding County boundary | +931 | City of Douglasville, Unincorporated Areas of Douglas County.
| Approximately 1,150 feet upstream of Brown Street | +1083
Huey Creek Tributary 1 | At the Huey Creek confluence | +940 | City of Douglasville, Unincorporated Areas of Douglas County.
| Approximately 0.91 mile upstream of the Huey Creek Tributary 1.1 confluence | +1095
Huey Creek Tributary 1.1 | At the Huey Creek Tributary 1 confluence | +1004 | Unincorporated Areas of Douglas County.
| Approximately 1,550 feet upstream of the Huey Creek Tributary 1 confluence | +1067
Huey Creek Tributary 2 | At the Huey Creek confluence | +976 | Unincorporated Areas of Douglas County.
| Approximately 350 feet upstream of Huey Road | +1017
Huey Creek Tributary 3 | At the Huey Creek confluence | +976 | Unincorporated Areas of Douglas County.
| Approximately 300 feet upstream of Pirkle Road | +1038
Hurricane Creek | At the Carroll County boundary | +727 | Unincorporated Areas of Douglas County.
| Approximately 1.10 miles upstream of the Tyree Branch confluence | +1201
Hurricane Creek Tributary A | At the Hurricane Creek confluence | +747 | Unincorporated Areas of Douglas County.
| Approximately 0.66 mile upstream of the Hurricane Creek confluence | +796
Hurricane Creek Tributary B | At the Hurricane Creek confluence | +784 | Unincorporated Areas of Douglas County.
| Approximately 1,450 feet upstream of the Hurricane Creek confluence | +832
Hurricane Creek Tributary C | At the Hurricane Creek confluence | +940 | Unincorporated Areas of Douglas County.
| Approximately 0.38 mile upstream of the Hurricane Creek confluence | +980
Hurricane Creek Tributary D | At the Hurricane Creek confluence | +958 | Unincorporated Areas of Douglas County.
| Approximately 0.53 mile upstream of the Hurricane Creek confluence | +1012
Hurricane Creek Tributary E | At the Hurricane Creek confluence | +976 | Unincorporated Areas of Douglas County.
| Approximately 1,921 feet upstream of Tweeddale Drive | +1022
Kraft Creek | At the Hurricane Creek confluence | +1019 | Unincorporated Areas of Douglas County.
| Approximately 450 feet upstream of Kraft Drive | +1045
Kraft Creek Tributary A | At the Kraft Creek confluence | +1031 | Unincorporated Areas of Douglas County.
| Approximately 950 feet upstream of the Kraft Creek confluence | +1057
Lion Branch | At the Beaver Creek confluence | +900 | City of Douglasville, Unincorporated Areas of Douglas County.
| Approximately 200 feet upstream of East Melissa Lane | +1060
Lion Branch Tributary A | At the Lion Branch confluence | +932 | Unincorporated Areas of Douglas County.
| Approximately 0.50 mile upstream of Trail Creek Drive | +992
Lion Branch Tributary B | At the Lion Branch confluence | +962 | Unincorporated Areas of Douglas County.
| Approximately 250 feet upstream of Bottlebrush Drive | +987
Little Hurricane Creek | At the Hurricane Creek confluence | +866 | Unincorporated Areas of Douglas County.
| Approximately 450 feet upstream of Summer Hill Drive | +1066
Little Hurricane Creek Tributary A | At the Little Hurricane Creek confluence | +927 | Unincorporated Areas of Douglas County.
| Approximately 0.73 mile upstream of Gable Drive | +990
Margie Branch | At the Beaver Creek confluence | +942 | Unincorporated Areas of Douglas County.
| Approximately 0.45 mile upstream of the Margie Branch Tributary A confluence | +1074
Margie Branch Tributary A | At the Margie Branch confluence | +1028 | Unincorporated Areas of Douglas County.
| Approximately 1,800 feet upstream of the Margie Branch confluence | +1079
Mill Creek | At the Gothards Creek confluence | +931 | City of Douglasville, Unincorporated Areas of Douglas County.
| Approximately 200 feet upstream of Crystal Creek Place | +1091
Mill Creek Tributary 1 | At the Mill Creek confluence | +972 | City of Douglasville.
| Approximately 0.85 mile upstream of the Mill Creek confluence | +1061
Miller Creek | At the Beaver Creek confluence | +927 | Unincorporated Areas of Douglas County.
| Approximately 600 feet upstream of Miller Street | +969
Miller Creek Tributary A | At the Miller Creek confluence | +927 | Unincorporated Areas of Douglas County.
| Approximately 1,450 feet upstream of the Miller Creek confluence | +983
Palmer Branch | At the Sweetwater Creek confluence | +757 | City of Douglasville, Unincorporated Areas of Douglas County.
| Approximately 0.56 mile upstream of the Palmer Branch Tributary C confluence | +900
Palmer Branch Tributary A | At the Palmer Branch confluence | +789 | City of Douglasville.
| Approximately 0.55 mile upstream of the Palmer Branch confluence | +935
Palmer Branch Tributary B | At the Palmer Branch confluence | +807 | City of Douglasville.
| Approximately 0.53 mile upstream of the Palmer Branch confluence | +882
Palmer Branch Tributary C | At the Palmer Branch confluence | +855 | City of Douglasville, Unincorporated Areas of Douglas County.
| Approximately 1,850 feet upstream of Washington Drive | +1005
Park Creek | At the Sweetwater Creek confluence | +885 | Unincorporated Areas of Douglas County.
| Approximately 800 feet upstream of Sinyard Road | +968
Pine Creek | At the Sweetwater Creek confluence | +889 | Unincorporated Areas of Douglas County.
| At the Cobb County boundary | +890
Pinewood Branch | At the Park Creek confluence | +885 | Unincorporated Areas of Douglas County.
| Approximately 600 feet upstream of Paces Drive | +949
Pinewood Branch Tributary A | At the Pinewood Branch confluence | +900 | Unincorporated Areas of Douglas County.
| Approximately 1,100 feet upstream of Plantation Drive | +987
Shell Creek | At the Hurricane Creek confluence | +994 | Unincorporated Areas of Douglas County.
| Approximately 0.78 mile upstream of Shell Road | +1099
Shoals Branch | At the Sweetwater Creek confluence | +768 | City of Douglasville, Unincorporated Areas of Douglas County.
| Approximately 1.27 miles upstream of the Shoals Branch Tributary B confluence | +975
Shoals Branch Tributary A | At the Shoals Branch confluence | +827 | City of Douglasville, Unincorporated Areas of Douglas County.
| Approximately 0.44 mile upstream of the Shoals Branch confluence | +923
Shoals Branch Tributary B | At the Shoals Branch confluence | +842 | Unincorporated Areas of Douglas County.
| Approximately 1,100 feet upstream of the Shoals Branch confluence | +877
Spivey Branch | At the Hickory Creek confluence | +944 | Unincorporated Areas of Douglas County.
| Approximately 0.82 mile upstream of the Spivey Branch Tributary B confluence | +1086
Spivey Branch Tributary A | At the Spivey Branch confluence | +965 | Unincorporated Areas of Douglas County.
| Approximately 550 feet upstream of Ivy Brooke Drive | +1040
Spivey Branch Tributary B | At the Spivey Branch confluence | +978 | Unincorporated Areas of Douglas County.
| Approximately 0.38 mile upstream of the Spivey Branch confluence | +1007
Sweetwater Creek | Approximately 85 feet downstream of the Palmer Branch confluence | +757 | City of Austell, City of Douglasville, Unincorporated Areas of Douglas County.
| Approximately 450 feet upstream of the Cobb County boundary | +892
Sweetwater Creek Tributary A | Approximately 1,450 feet upstream of the Sweetwater Creek confluence | +758 | City of Douglasville.
| Approximately 1,000 feet upstream of Riverside Parkway | +799
Sweetwater Creek Tributary B | Approximately 1,400 feet upstream of the Sweetwater Creek confluence | +757 | City of Douglasville.
| Approximately 0.47 mile upstream of the Sweetwater Creek confluence | +788
Sweetwater Creek Tributary C | Approximately 1,800 feet upstream of the Sweetwater Creek confluence | +758 | City of Douglasville, Unincorporated Areas of Douglas County.
| Approximately 0.77 mile upstream of the Sweetwater Creek confluence | +797
Sweetwater Creek Tributary D | Approximately 0.48 mile upstream of the Sweetwater Creek confluence | +758 | City of Douglasville.
| Approximately 1.52 miles upstream of the Sweetwater Creek confluence | +856
Sweetwater Creek Tributary E | At the Sweetwater Creek confluence | +778 | Unincorporated Areas of Douglas County.
| Approximately 0.88 mile upstream of the Sweetwater Creek confluence | +900
Sweetwater Creek Tributary F | At the Sweetwater Creek confluence | +876 | City of Douglasville, Unincorporated Areas of Douglas County.
| Approximately 750 feet upstream of Factory Shoals Road | +964
Sweetwater Creek Tributary G | At the Sweetwater Creek confluence | +878 | City of Douglasville, Unincorporated Areas of Douglas County.
| Approximately 800 feet upstream of Trae Lane | +1002
Sweetwater Creek Tributary H | At the Sweetwater Creek confluence | +879 | City of Douglasville, Unincorporated Areas of Douglas County.
| At the Cobb County boundary | +911
Sweetwater Creek Tributary I | At the Sweetwater Creek confluence | +882 | Unincorporated Areas of Douglas County.
| Approximately 250 feet upstream of White Flag Trail | +918
Sweetwater Creek Tributary J | At the Sweetwater Creek confluence | +887 | City of Austell, Unincorporated Areas of Douglas County.
| Approximately 1,200 feet upstream of State Route 6 (Thornton Road) | +946
Sweetwater Creek Tributary K | At the Sweetwater Creek confluence | +887 | City of Austell, Unincorporated Areas of Douglas County.
| Approximately 0.51 mile upstream of U.S. Route 78 (Bankhead Highway) | +921
Sweetwater Creek Tributary L | At the Cobb County boundary | +906 | Unincorporated Areas of Douglas County.
| Approximately 1,250 feet upstream of Brownsville Road | +1057
Sweetwater Creek Tributary L.2 | At the Sweetwater Creek Tributary L confluence | +907 | Unincorporated Areas of Douglas County.
| Approximately 750 feet upstream of North Sweetwater Road | +966
Sweetwater Creek Tributary L.3 | At the Sweetwater Creek Tributary L confluence | +934 | Unincorporated Areas of Douglas County.
| Approximately 1,500 feet upstream of Union Grove Road | +990
Sweetwater Creek Tributary L.3.1 | At the Sweetwater Creek Tributary L.3 confluence | +955 | Unincorporated Areas of Douglas County.
| Approximately 1,600 feet upstream of the Sweetwater Creek Tributary L.3 confluence | +999
Tyree Branch | At the Hurricane Creek confluence | +1044 | Unincorporated Areas of Douglas County.
| Approximately 1.10 miles upstream of the Hurricane Creek confluence | +1171
Zion Branch | At the Hurricane Creek confluence | +736 | Unincorporated Areas of Douglas County.
| Approximately 0.53 mile upstream of State Route 5 | +988
* National Geodetic Vertical Datum.
+ North American Vertical Datum.
# Depth in feet above ground.
‸ Mean Sea Level, rounded to the nearest 0.1 meter.
ADDRESSES
City of Austell
Maps are available for inspection at the City of Austell-Threadmill Complex, 5000 Austell-Powder Springs Road, Austell, GA 30106.
City of Douglasville
Maps are available for inspection at City Hall, 6695 Church Street, Douglasville, GA 30134.
Unincorporated Areas of Douglas County
Maps are available for inspection at the Douglas County Courthouse, 8700 Hospital Drive, Douglasville, GA 30134.
Forsyth County, Georgia, and Incorporated Areas
Docket No.: FEMA-B-1233
Baldridge Creek | At Pilgrim Mill Road | +1088 | Unincorporated Areas of Forsyth County.
| Approximately 0.75 mile upstream of U.S. Route 19 (State Route 400) | +1299
Bentley Creek | Approximately 1,460 feet upstream of the Big Creek confluence | +1025 | Unincorporated Areas of Forsyth County.
| Approximately 1,800 feet upstream of Bentley Road | +1047
Big Creek | At the Fulton County boundary | +1000 | City of Cumming, Unincorporated Areas of Forsyth County.
| Approximately 1,490 feet upstream of Canton Road (State Route 20) | +1142
Camp Creek Tributary | At the Fulton County boundary | +1012 | Unincorporated Areas of Forsyth County.
| Approximately 350 feet upstream of James Road | +1062
Chattahoochee River | At the Fulton County boundary | +904 | Unincorporated Areas of Forsyth County.
| At the Buford Dam | +920
Cheatam Creek | At the Big Creek confluence | +1029 | Unincorporated Areas of Forsyth County.
| Approximately 1,250 feet upstream of Kelly Mill Road | +1056
Daves Creek | At the James Creek confluence | +946 | Unincorporated Areas of Forsyth County.
| Approximately 1,070 feet upstream of Northside Forsyth Drive | +1203
Dick Creek | At the Chattahoochee River confluence | +906 | Unincorporated Areas of Forsyth County.
| At Mathis Airport Parkway | +1042
Haw Creek | At the Chattahoochee River confluence | +919 | Unincorporated Areas of Forsyth County.
| Approximately 400 feet upstream of Habersham Gate Drive | +1179
James Creek | At the Chattahoochee River confluence | +912 | Unincorporated Areas of Forsyth County.
| Approximately 700 feet upstream of Oak Industrial Lane | +1204
Johns Creek | At the upstream side of McGinnis Ferry Road | +1023 | Unincorporated Areas of Forsyth County.
| At the Fulton County boundary | +1041
Sawnee Creek | At the downstream side of the Sawnee Creek Tributary 2 confluence | +1085 | Unincorporated Areas of Forsyth County.
| Approximately 1,050 feet upstream of Jackson Court | +1261
* National Geodetic Vertical Datum.
+ North American Vertical Datum.
# Depth in feet above ground.
‸ Mean Sea Level, rounded to the nearest 0.1 meter.
ADDRESSES
City of Cumming
Maps are available for inspection at City Hall, 100 Main Street, Cumming, GA 30040.
Unincorporated Areas of Forsyth County:
Maps are available for inspection at the Forsyth County Administration Building, Department of Engineering, 110 East Main Street, Suite 120, Cumming, GA 30040.
Gwinnett County, Georgia, and Incorporated Areas
Docket No.: FEMA-B-1233
Brushy Creek | At the Chattahoochee River confluence | +904 | City of Suwanee, Unincorporated Areas of Gwinnett County.
| Approximately 100 feet upstream of Suwanee Dam Road | +1010
Chattahoochee River | Approximately 800 feet upstream of Holcomb Bridge Road (at the Fulton County boundary) | +884 | City of Berkeley Lake, City of Duluth, City of Sugar Hill, City of Suwanee, Unincorporated Areas of Gwinnett County.
| Approximately 0.6 mile upstream of the Chattahoochee River (Bowmans East) divergence | +920
Chattahoochee River (Bowmans East) | At the Chattahoochee River confluence | +915 | City of Sugar Hill, Unincorporated Areas of Gwinnett County.
| Approximately 0.71 mile upstream of the Chattahoochee River confluence | +917
Duncan Creek | Approximately 1.14 miles downstream of Crimson King Drive | +817 | Town of Braselton, Unincorporated Areas of Gwinnett County.
| Approximately 0.43 mile upstream of East Rock Quarry Road | +1082
Level Creek | At the Chattahoochee River confluence | +907 | City of Sugar Hill, City of Suwanee, Unincorporated Areas of Gwinnett County.
| Approximately 250 feet upstream of Peachtree Industrial Boulevard | +1045
Level Creek Tributary No. 1 | At the Level Creek confluence | +951 | City of Suwanee, Unincorporated Areas of Gwinnett County.
| At the downstream side of Suwanee Dam Road | +995
Level Creek Tributary No. 2 | At the upstream side of Whitehead Road | +976 | City of Sugar Hill, Unincorporated Areas of Gwinnett County.
| Approximately 160 feet upstream of Sugar Ridge Drive | +1021
Little Mulberry River | Approximately 0.47 mile downstream of Mount Moriah Road | +836 | Unincorporated Areas of Gwinnett County.
| Approximately 550 feet upstream of Millwater Crossing | +995
Little Mulberry River Tributary A | At the Little Mulberry River confluence | +846 | Unincorporated Areas of Gwinnett County.
| Approximately 175 feet upstream of Mineral Springs Road | +986
Little Mulberry River Tributary B | At the Little Mulberry River confluence | +849 | Unincorporated Areas of Gwinnett County.
| Approximately 125 feet upstream of Hog Mountain Road | +929
Little Mulberry River Tributary C | At the Little Mulberry River confluence | +858 | Unincorporated Areas of Gwinnett County.
| Approximately 125 feet upstream of the private driveway | +889
Little Mulberry River Tributary D | At the upstream side of Hog Mountain Road | +896 | Unincorporated Areas of Gwinnett County.
| Approximately 270 feet upstream of Hog Mountain Road | +896
Little Mulberry River Tributary E | Approximately 100 feet upstream of Hog Mountain Road | +908 | Unincorporated Areas of Gwinnett County.
| Approximately 100 feet downstream of Patrick Road | +908
Mill Creek (Stream 6) | Approximately 950 feet upstream of the Mill Creek Tributary (Stream 6.1) confluence | +896 | City of Berkeley Lake, Unincorporated Areas of Gwinnett County.
| At the upstream side of Bush Road | +926
Mill Creek Tributary (Stream 6.1) | At the Mill Creek (Stream 6) confluence | +895 | City of Berkeley Lake, Unincorporated Areas of Gwinnett County.
| Approximately 270 feet upstream of Bayway Circle | +976
Mitchell Creek | Approximately 1.34 miles downstream of Thompson Mill Road | +1015 | Unincorporated Areas of Gwinnett County.
| Approximately 850 feet upstream of South Puckett Lane | +1136
Richland Creek | At the Chattahoochee River confluence | +914 | City of Buford, City of Sugar Hill, Unincorporated Areas of Gwinnett County.
| Approximately 80 feet upstream of Cole Road Northeast | +1096
Richland Creek Tributary No. 1 | At the Richland Creek confluence | +951 | City of Sugar Hill, Unincorporated Areas of Gwinnett County.
| Approximately 100 feet upstream of Stewart Road Northeast | +1010
Richland Creek Tributary No. 2 | At the Richland Creek confluence | +1010 | City of Buford, Unincorporated Areas of Gwinnett County.
| Approximately 450 feet upstream of Pine Hollow Way | +1055
Rock Creek | Approximately 950 feet downstream of Bailey Road | +961 | Unincorporated Areas of Gwinnett County.
| Approximately 1.68 miles upstream of Bailey Road | +999
Rogers Creek | Approximately 1,160 feet upstream of the Chattahoochee River confluence | +899 | City of Duluth, Unincorporated Areas of Gwinnett County.
| Approximately 0.83 mile upstream of Bridlewood Drive | +1039
Sherwood Creek | Approximately 0.66 mile downstream of Old Thompson Mill Road | +922 | Unincorporated Areas of Gwinnett County.
| Approximately 1,950 feet upstream of Rock Quarry Road | +964
Stream 1 | At the Chattahoochee River confluence | +887 | Unincorporated Areas of Gwinnett County.
| Approximately 450 feet upstream of Allenhurst Drive | +932
Stream 10 | At the Chattahoochee River confluence | +902 | City of Duluth, Unincorporated Areas of Gwinnett County.
| Approximately 0.47 mile upstream of Buford Highway | +1031
Stream 2 | At the Chattahoochee River confluence | +888 | Unincorporated Areas of Gwinnett County.
| Approximately 1,650 feet upstream of the pedestrian bridge | +947
Stream 3 | At the Chattahoochee River confluence | +890 | Unincorporated Areas of Gwinnett County.
| Approximately 0.55 mile upstream of Edgerton Drive | +948
Stream 4 | Approximately 950 feet upstream of the Chattahoochee River confluence | +891 | Unincorporated Areas of Gwinnett County.
| Approximately 100 feet upstream of the Detention Pond | +950
Stream 5 | Approximately 1,150 feet upstream of the Chattahoochee River confluence | +895 | Unincorporated Areas of Gwinnett County.
| Approximately 275 feet upstream of Bush Road | +920
Stream 8 | At the Chattahoochee River confluence | +898 | City of Duluth.
| At the upstream side of Howell Springs Drive | +972
Suwanee Creek | At the Chattahoochee River confluence | +903 | Unincorporated Areas of Gwinnett County.
| Approximately 0.91 mile upstream of the Chattahoochee River confluence | +909
Swilling Creek | At the Chattahoochee River confluence | +897 | City of Duluth.
| Approximately 1,680 feet upstream of Tree Summit Parkway | +977
Swilling Creek Tributary | At the Swilling Creek confluence | +928 | City of Duluth.
| Approximately 100 feet downstream of Whippoorwill Drive | +966
Wheeler Creek | Approximately 1.2 miles downstream of Wheeler Road | +838 | Unincorporated Areas of Gwinnett County.
| Approximately 435 feet upstream of Flowery Branch Road | +931
* National Geodetic Vertical Datum.
+ North American Vertical Datum.
# Depth in feet above ground.
‸ Mean Sea Level, rounded to the nearest 0.1 meter.
ADDRESSES
City of Berkeley Lake
Maps are available for inspection at City Hall, 4040 Berkeley Lake Road, Berkeley Lake, GA 30096.
City of Buford
Maps are available for inspection at City Hall, 95 Scott Street, Buford, GA 30518.
City of Duluth
Maps are available for inspection at the Department of Planning and Development, 3578 West Lawrenceville Street, Duluth, GA 30096.
City of Sugar Hill
Maps are available for inspection at City Hall, Planning and Zoning Department, 4988 West Broad Street, Sugar Hill, GA 30518.
City of Suwanee
Maps are available for inspection at the Crossroads Center, 323 Buford Highway, Suwanee, GA 30024.
Town of Braselton
Maps are available for inspection at the Town Hall, 4982 State Route 53, Braselton, GA 30517.
Unincorporated Areas of Gwinnett County
Maps are available for inspection at the Gwinnett County Office, 75 Langley Drive, Lawrenceville, GA 30045.
Mille Lacs County, Minnesota, and Incorporated Areas
Docket No.: FEMA-B-1161
Mille Lacs Lake | Entire shoreline within community | +1254 | City of Wahkon, Unincorporated Areas of Mille Lacs County.
Rum River (Lower Reach) | Approximately 2.25 miles downstream of State Highway 95 | +962 | Unincorporated Areas of Mille Lacs County.
| Approximately 0.82 mile upstream of State Highway 95 | +967
* National Geodetic Vertical Datum.
+ North American Vertical Datum.
# Depth in feet above ground.
‸ Mean Sea Level, rounded to the nearest 0.1 meter.
ADDRESSES
City of Wahkon
Maps are available for inspection at City Hall, 151 2nd Street East, Wahkon, MN 56386.
Unincorporated Areas of Mille Lacs County
Maps are available for inspection at the Mille Lacs County Courthouse Annex, 246 6th Avenue Southeast, Milaca, MN 56353.
Putnam County, New York (All Jurisdictions)
Docket No.: FEMA-B-1137
Barrett Pond | At the confluence with Clove Creek | +361 | Town of Philipstown.
| Approximately 2,741 feet upstream of Fishkill Road | +378
Clove Creek | Approximately 50 feet downstream of U.S. Route 9 | +259 | Town of Philipstown.
| Approximately 1.6 miles upstream of Briars Road | +517
Croton Falls Diverting Reservoir | Entire shoreline within the Town of Southeast | +310 | Town of Southeast
Croton Falls Reservoir | Entire shoreline | +311 | Town of Carmel, Town of Southeast.
East Branch Croton River Reach 1 | At the confluence with the Croton Falls Diverting Reservoir | +310 | Town of Southeast, Village of Brewster.
| Approximately 777 feet upstream of State Route 22 | +359
Foundry Brook | Approximately 1,320 feet downstream of State Route 9D | +8 | Town of Philipstown, Village of Cold Spring, Village of Nelsonville.
| Approximately 852 feet upstream of Fishkill Road | +369
Holly Stream | Approximately 1,099 feet downstream of State Route 22 | +273 | Town of Southeast.
| Approximately 854 feet upstream of I-684 | +312
Lake Mahopac | Entire shoreline within the Town of Carmel | +660 | Town of Carmel.
Lost Lake | Entire shoreline | +466 | Town of Patterson.
Michael Brook | At the confluence with the Croton Falls Reservoir | +311 | Town of Carmel, Town of Kent.
| Approximately 0.9 mile upstream of Fair Street | +593
Middle Branch Croton River | At confluence with the Middle Branch Reservoir | +371 | Town of Carmel, Town of Kent, Town of Southeast.
| Approximately 101 feet upstream of Lakeshore Drive | +620
Middle Branch Reservoir | Entire shoreline within the Town of Southeast | +371 | Town of Southeast.
Muscoot River | At the county boundary | +509 | Town of Carmel.
| Approximately 1,009 feet upstream of Stillwater Road | +511
Oscawana Brook | At the county boundary | +115 | Town of Putnam Valley.
| Approximately 1,550 feet upstream of Oscawana Lake Road | +516
Putnam Lake | Entire shoreline | +494 | Town of Patterson.
Secor Brook | At the confluence with the Muscoot River | +511 | Town of Carmel.
| Approximately 1,396 feet upstream of Secor Road | +566
Shrub Oak Brook | Approximately 500 feet upstream of the confluence with Peekskill Hollow Creek | +219 | Town of Putnam Valley.
| At the county boundary | +393
Stephens Brook | Approximately 250 feet upstream of the confluence with East Branch Croton River Reach 2 | +433 | Town of Patterson.
| Approximately 31 feet upstream of Thunder Ridge Road | +473
Tonetta Brook | At the confluence with East Branch Croton River Reach 1 | +313 | Town of Southeast, Village of Brewster.
| Approximately 351 feet upstream of Pumphouse Road | +444
* National Geodetic Vertical Datum.
+ North American Vertical Datum.
# Depth in feet above ground.
‸ Mean Sea Level, rounded to the nearest 0.1 meter.
ADDRESSES
Town of Carmel
Maps are available for inspection at the Carmel Town Hall, 60 McAlpin Avenue, Mahopac, NY 10541.
Town of Kent
Maps are available for inspection at the Town of Kent Administration Office, 25 Sybils Crossing, Kent Lakes, NY 10512.
Town of Patterson
Maps are available for inspection at the Town Hall, 1142 Route 311, Patterson, NY 12563.
Town of Philipstown
Maps are available for inspection at the Philipstown Town Hall, 238 Main Street, Cold Spring, NY 10516.
Town of Putnam Valley
Maps are available for inspection at the Town Hall, 265 Oscawana Lake Road, Putnam Valley, NY 10579.
Town of Southeast
Maps are available for inspection at the Southeast Town Building Department, 1 Main Street, Brewster, NY 10509.
Village of Brewster
Maps are available for inspection at the Village Hall, Larry T. Jewell Municipal Building, 50 Main Street, Brewster, NY 10509.
Village of Cold Spring
Maps are available for inspection at the Village Hall, 85 Main Street, Cold Spring, NY 10516.
Village of Nelsonville
Maps are available for inspection at the Village Hall, 258 Main Street, Nelsonville, NY 10516.

(Catalog of Federal Domestic Assistance No. 97.022, “Flood Insurance.”)

James A. Walke,
Acting Deputy Associate Administrator for Mitigation, Department of Homeland Security, Federal Emergency Management Agency.

[FR Doc. 2012-31349 Filed 12-28-12; 8:45 am]

BILLING CODE 9110-12-P